DEPARTMENT OF LABOR

[Agency Docket Number: DOL-2022-0003]

Office of the Assistant Secretary for Policy; Request for Information on Design and Implementation Features for Open Data Services Provided by the Department of Labor

AGENCY: Office of the Assistant Secretary for Policy, Department of Labor.

ACTION: Request for information.

SUMMARY: The Department is seeking public input in support of its open data efforts to ensure that expanding public access to Federal data will best reflect public interests, serve public needs, and continue to be customer focused, while protecting the confidentiality of its data providers.

DATES: Written comments must be submitted through the Federal eRulemaking Portal as described below on or before December 12, 2022.

ADDRESSES: You may submit electronic comments in the following way:

Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as personally identifying information, your or anyone else's Social Security number, or confidential business information, such as a manufacturing process. Please note that if you include your name, contact information, or other information that identifies you in the body of your comments, that information will be posted on https://www.regulations.gov.

Instructions: All submissions received must include the Docket No. DOL-2021-0005 for “Request for information on design and implementation features for open data services provided by the Department of Labor.” Received comments, those filed in a timely manner (see DATES), will be placed in the docket and be publicly viewable at https://www.regulations.gov.

FOR FURTHER INFORMATION CONTACT: Scott Gibbons, Chief Data Officer, Office of the Assistant Secretary for Policy, U.S. Department of Labor, 200 Constitution Avenue NW, Washington, DC 20210, gibbons.scott.m@dol.gov, 202-693-5075 (this is not a toll-free number), or for individuals with hearing or speech impairments, 1-877-889-5627 (this is the TTY toll-free Federal Information Relay Service number).

SUPPLEMENTARY INFORMATION:

I. Background

The Department of Labor (Department) is committed to fostering a strong, open data policy that provides simple and meaningful public access to data, in formats that are most useful for public consumption and analyses of the data. The Department's open data policy must also comply with the law, including protecting personal and private information subject to the Privacy Act. The Department's open data policy is also consistent with Secretary's Order (SO) 02-2019,¹ the Federal Data Strategy,² and the Foundations for Evidence-Based Policymaking Act of 2018 (Evidence Act).³

¹ https://www.federalregister.gov/documents/2019/03/26/2019-05720/secretarys-order-02-2019-chief-data-officer-and-dol-data-board.

² https://strategy.data.gov/.

³ https://www.govinfo.gov/content/pkg/PLAW-115publ435/pdf/PLAW-115publ435.pdf.

SO 02-2019 provides the Department's framework for building data capacity and includes the following requirements:

• Identify the critical role that data play in informing and influencing how the Department carries out its mission, and acknowledge that these data need to be leveraged, housed, described and documented, formatted, and made public in an optimal manner;

• Formalize the Data Board as the Department's data governance body, and as a forum to work across organizational lines to collaborate and coordinate effectively on data strategy, management, and policy issues, as well as data governance, stewardship, architecture, and utilization;

• Provide Departmental programs with clear descriptions of the motivation, context, and values associated with data governance and data strategy by linking evidence-based policymaking with the need for modern data infrastructure and strengthened data capacity; and

• Task the Data Board and the Chief Data Officer with serving the needs of the Department and its stakeholders to focus on the quality, consistency, and availability of data.

In addition, the Evidence Act and the recently published Federal Data Strategy have expanded the requirements for Federal agencies to build data capacity that benefits the public and to be transparent with their data assets. Examples of these expansions include Section 303 of the Evidence Act, which expands requirements for access to data for evidence and adds a presumption of accessibility to data, and Section 202(b) of the Evidence Act, which includes guidance to make data open by default. In similar fashion, the Federal Data Strategy explicitly calls on agencies to identify priority data sets (Action 1) and to identify their initial list of priority data assets for agency open data plans (Action 5).

Consistent with all of these requirements, the Department is building capacity for open data through the development of a new Application Programming Interface (API), and plans to provide open data through a data-as-a-service (DAAS) model. This model is expected to offer efficient, on-demand methods that enable users to create customized data extracts in a machine-readable format. The Department is also seeking to increase the quantity and types of data sets offered through DAAS, providing more standardized data documentation in electronic formats—including machine-readable—and designing a central portal for customers to find data, metadata, tools for ingesting data, and data-specific documentation.

II. Review Focus

The Department seeks public comment on specific approaches that could lead to wider and easier access, greater utility, and increased comprehensibility to data and associated documentation that the Department makes available. The Department also seeks comment on challenges with using existing Department data,⁴ including access mechanisms, so that the Data Board and various Departmental programs can work to make improvements. Respondents should note that this request for comments does not address data products designed, collected, and published by the Bureau of Labor Statistics.

⁴ Examples of DOL data as they are currently offered include enforcement databases (https://enforcedata.dol.gov/homePage.php), Wage and Hour Division's enforcement data (https://www.dol.gov/agencies/whd/data/charts), the Office of Foreign Labor Certification's performance data (https://www.dol.gov/agencies/eta/foreign-labor/performance), and assorted data from the Unemployment Insurance program (https://oui.doleta.gov/unemploy/DataDashboard.asp).

The Department seeks comments on the specific characteristics of data and supporting materials that would allow the public to better use and benefit from our open data. Examples may include:

1. Data content and format;

2. Data documentation, including metadata content, codebooks, and data dictionaries;

3. Data formats specific to certain analysis patterns (e.g., spatial analysis, machine learning, and program evaluation) including tagging, geocoding, and data encoding that reduce burdens and increase efficiency;

4. Data quality issues that diminish the benefit and utility of Departmental data and limit transparency and analyses; and

5. Challenges with data comparability including linking across program data, establishing common identifiers across data sets, and merging Departmental data with other Federal and non-Federal data sources.

The Department also solicits public comment on the following areas:

6. Identifying data sets that are currently useful and merit prioritization in forthcoming open data efforts;

7. Identifying data sets that are neither public nor available through restricted-use access programs that could provide value to the Department's stakeholders if made available;

8. The relative advantages and disadvantages of various machine-readable formats including JavaScript Object Notation (JSON), Extensible Markup Language (XML), and ASCII text files with or without comma-separated values (CSV) files;

9. The relative advantages and disadvantages of providing open data through DAAS vis-a-vis complexity, efficiency, convenience, automation, and user-friendliness;

10. Specific data sets and methodologies that would be useful in achieving the goals of President Biden's Executive Orders on Equity from January 2021 and on Customer Experience from November 2021; and relevant data and metadata standards that enhance interoperability, promote transparency, aid discovery, provide understanding, and facilitate integrating data from multiple sources.

Respondents are encouraged to associate the category numbering above within their responses to facilitate organization and analysis of the comments.

Signed at Washington, DC, this 7th day of June, 2022.
Scott Gibbons,
Chief Data Officer, Office of the Assistant Secretary for Policy.

[FR Doc. 2022-12510 Filed 6-14-22; 8:45 am]

BILLING CODE 4510-HX-P